DEPARTMENT OF THE INTERIOR

Bureau of Reclamation

Walker River Basin Acquisition Program

AGENCY: Bureau of Reclamation, Interior.

ACTION: Notice of Availability and Notice of Public Meetings for the Draft Environmental Impact Statement (Draft EIS).

SUMMARY: The Bureau of Reclamation (Reclamation) has made available for public review and comment the Draft EIS for the Walker River Basin Acquisition Program. (Acquisition Program). Reclamation is directed in Public Law 109-103 to provide $70 million in funding to the University of Nevada to implement a program for environmental restoration in the Walker River Basin. The law directs that the funds be used by the University to acquire from willing sellers land, water appurtenant to the land, and related interests in the Walker River Basin, Nevada. Acquired water rights would be transferred to provide water to Walker Lake. The funding is also for the University to establish and operate an agricultural and natural resources center.

The Draft EIS evaluates the potential environmental effects of the Acquisition Program on the affected communities, tribes, and environmental resources of the Walker River Basin in Nevada.

DATES: Submit written comments on the draft environmental document on or before [INSERT DATE 45 DAYS AFTER DATE OF EPA'S PUBLICATION OF EISES REICEVED].

Public meetings will be held to discuss the purpose and content of the draft environmental document and to provide the public an opportunity to comment on the draft environmental document. Written comments will also be accepted at the public meetings. The meetings dates and times are:

• Monday, August 17, 2009, 6 to 8 p.m., Reno, NV;

• Tuesday, August 18, 2009, 6 to 8 p.m., Yerington, NV;

• Wednesday, August 19, 2009, 6 to 8 p.m., Wellington, NV;

• Thursday, August 20, 2009, 6 to 8 p.m., Hawthorne, NV.

ADDRESSES: The public meetings will be held at:

• Rancho San Rafael County Park, Main Ranch House, 1595 N. Sierra Street, Reno, NV 89503;

• Casino West Convention Center, 11 North Main Street, Yerington, NV 89447;

• Smith Valley Community Center, 2783 Highway 208, Wellington, NV 89444;

• Mineral County Public Library, First & “A” Street, Hawthorne, NV 89415.

Written comments on the Draft EIS should be addressed to Mrs. Caryn Huntt DeCarlo, Bureau of Reclamation, 705 N Plaza, Room 320, Carson City, NV 89701.

Copies of the draft document may be requested from Mrs. Caryn Huntt DeCarlo at the above address, by calling 775-884-8352 or at chunttdecarlo@mp.usbr.gov. See Supplementary Information section for locations where copies of the Draft EIS are available.

FOR FURTHER INFORMATION CONTACT: Mrs. Caryn Huntt DeCarlo, Bureau of Reclamation at the phone number or e-mail address above.

SUPPLEMENTARY INFORMATION: Since 1882, diversions from the Walker River, primarily for irrigated agriculture, have resulted in a steadily declining surface elevation of Walker Lake with a current net decrease of 150 feet. The decrease has resulted in negative impacts to water quality and lake ecology and congressional legislation has been passed to address the concerns. Section 2507 of Public Law 107-171 (Desert Terminal Lakes Program) appropriated funds to provide water to at-risk natural desert terminal lakes. Subsequent legislation in 2003 specified that the funding was to be used “only for the Pyramid, Summit, and Walker Lakes in the State of Nevada.” Additional legislation in 2006, Public Law 109-103, Title II, Section 208(a) allocated $70 million to be provided by Reclamation to the University of Nevada for acquisition, from willing sellers, for land, water appurtenant to the land, and related interests in the Walker River Basin, Nevada. The goal of the Acquisition Program is to acquire water rights sufficient to increase the long-term average annual inflow to Walker Lake by 50,000 acre-feet.

The Draft EIS considers the direct, indirect, and cumulative effects on the physical, natural, and human environment that may result from the Acquisition Program. The Draft EIS addresses potentially significant environmental issues. Three acquisition alternatives as well as the no action alternative are addressed.

Copies of the Draft EIS are available for public review at the following locations:

• Bureau of Reclamation, Denver Office Library, Building 67, Room 167, Denver Federal Center, 6th and Kipling, Denver, CO 80225

• Natural Resources Library, U.S. Department of the Interior, 1849 C Street, NW., Main Interior Building, Washington, DC 20240-0001;

• Bureau of Reclamation, Mid-Pacific Regional Office Library, 2800 Cottage Way, W-1825, Sacramento, CA 95825-1898;

• Bureau of Reclamation, Lahontan Basin Area Office, 705 N Plaza, Room 320, NV 89701;

• Lyon County Library—Smith Valley, 32 Day Lane, Smith Valley, NV 89444-0156;

• Lyon County Library—Yerington, 20 Nevin Way, Yerington, NV 89447;

• Mineral County Library—Hawthorne, P.O. Box 1390, Hawthorne, NV 89415;

• Walker River Paiute Tribe—P.O. Box 220, Schurz, NV 89427;

• Yerington Paiute Tribe—171 Campbell Lane, Yerington, NV 89447.

If special assistance is required at the public meetings, please contact Caryn Huntt DeCarlo at 775-884-8352 no less than five working days before the meeting to allow Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: February 27, 2009.
Richard M. Johnson,
Acting Regional Director, Mid-Pacific Region.

Editorial Note: This document was received in the Office of the Federal Register on July 21, 2009.

[FR Doc. E9-17675 Filed 7-23-09; 8:45 am]

BILLING CODE 4310-MN-P